DEPARTMENT OF HEALTH AND HUMAN SERVICES

Indian Health Service

Office of Clinical and Preventive Services; Elder Care Initiative Long-Term Care Grant Program

Announcement Type: New.

Funding Announcement Number: HHS-2010-IHS-EHC-0001.

Catalog of Federal Domestic Assistance Number: 93.933.

Key Dates

Letter of Intent Deadline Date: May 10, 2010.

Application Deadline Date: June 4, 2010.

Review Dates: June 22-24, 2010.

Earliest Anticipated Start Date: August 1, 2010.

I. Funding Opportunity Description

Statutory Authority

The Indian Health Service (IHS) announces the availability of up to $600,000 for competitive grants through the Elder Care Initiative Long-Term Care (ECILTC) Grant Program to support planning and implementation of sustainable long-term care services for American Indians and Alaska Native (AI/AN) elders. This program is authorized under the Snyder Act, 25 U.S.C. 1652, 25 U.S.C. 1653(c), and the Public Health Service Act, Section 301, as amended. This program is described at 93.933 in the Catalog of Federal Domestic Assistance (CFDA).

Background

The AI/AN elder population is growing rapidly and the AI/AN population as a whole is aging. The prevalence of chronic disease in this population continues to increase, contributing to a frail elder population with increasing long-term care (LTC) needs.

LTC is best understood as a set of social and health care services that support an individual who has needs for assistance in activities of daily living over a prolonged period of time. LTC supports elders and their families with medical, personal, and social services delivered in a variety of settings to support quality of life, maximum function, and dignity. While families continue to be the backbone of LTC for AI/AN elders, there is well documented need to support this care with formal services. The way these services and systems of care are developed and implemented can have a profound impact on the cultural and spiritual health of the community.

Home and Community-based Services (HCBS) have the potential for meeting the needs of the vast majority of elders requiring LTC services, supporting the key roles of the family in the care of the elder and the elder in the care of the family and community. A LTC system with a foundation in home and community-based services will also be consistent with the United States Supreme Court interpretation of the Americans with Disabilities Act in Olmstead v. L.C., 527 U.S. 581 (1999). The 28 CFR 35.130(d) ruling obligates States and localities to provide care for persons with disabilities, “in the most integrated setting appropriate to the needs of qualified individuals with disabilities.” An efficient and effective LTC system would make use of all available resources, integrating and coordinating services to assist families in the care of their elders.

The primary focus for planning and program development for AI/AN LTC is at the Tribal and urban community level. Tribes and communities have very different histories, capabilities, and resources with regard to LTC program development. Each Tribe or community will have different priorities in building LTC infrastructure. It is critical that the development of LTC services be well grounded in an assessment of need based on population demographics and rates of functional impairment. LTC services should be acceptable to elders and their families and consistent with community values in their implementation. The services should be a part of an overall vision and plan for a LTC system to support elders and their families.

There are a number of elements (Tribal sovereignty and the government-to-government relationship, the unique funding structure of Indian health, and the importance of the cultural context) that distinguish AI/AN LTC. Tribes and Tribal organizations have found it useful to look both inside and outside of the Indian Health system (IHS, Tribal, and urban Indian health programs) for LTC strategies and models.

In order to create sustainable programs, the planning and design of LTC services must identify the revenue source or sources that will support the delivery of care. Finding resources for LTC services presents a formidable challenge. Funds appropriated through the IHS (whether direct service or Tribal) can provide health care services which are part of a LTC system, but do not provide for a comprehensive set of LTC services. Programs funded through the Administration on Aging's American Indian, Alaska Native and Native Hawaiian Program (e.g. Title VI A and Title VI C Family Caregiver Support Program) have been key elements in the LTC infrastructure in AI/AN communities. Additional Older American Act resources may be available through State Units on Aging and Area Agencies on Aging. Other resources are available to provide LTC services on a reimbursable basis for eligible AI/AN elders. The majority of formal or paid LTC services in this country are funded by reimbursements from State Medicaid and HCBS programs. The Veterans Administration may be a source of reimbursement for LTC services for eligible AI/AN veterans. Federal housing programs are a potential resource in developing the housing component of the LTC infrastructure. Each of these resources has unique eligibility requirements. Development of reimbursement-based LTC services often requires an ongoing investment of funds to support delivery of services during the initial period of client recruitment, start-up of services, and the receipt of reimbursement for those services.

Purpose

The purpose of the Elder Care Initiative Long Term Care grants is to provide support for the development of AI/AN LTC services, with funding for either assessment and planning, or program implementation. LTC services developed with support of this grant program must be those which the IHS has the authority to provide, either directly or through funding agreement, and must be designed to serve IHS beneficiaries. Most Tribes and urban communities are building toward their ideal LTC system incrementally, adding new or integrating existing services over time. The goal of this grant program is to support Tribes, Tribal organizations, Tribal consortia, and Urban Indian health programs as they build LTC systems and services that meet the needs of their elders and that keep elders engaged and involved in the lives of their families and communities.

II. Award Information

Type of Award

Grant.

Estimated Funds Available

The total amount of funding identified for the current fiscal year FY 2010 is approximately $600,000. Competing and continuation awards issued under this announcement are subject to the availability of funds. In the absence of funding, the agency is under no obligation to make awards that are selected for funding under this announcement.

Anticipated Number of Awards

Approximately, 8-10 awards will be issued under this program announcement.

Project Period

Two years (24 months).

Award Amount

$50,000 per year for Category 1—Assessment and Planning Awards.

$75,000 per year for Category 2—Implementation Awards.

Category 1—Assessment and Planning awards will support the following activities:

a. Demographic assessment of the population and assessment of LTC needs on a population basis.

b. Evaluation of existing services and resources for LTC.

c. Evaluation of potential resources to fund LTC services.

d. Assessment of cultural and religious values regarding care of the elder for the population(s) served.

e. Assessment of elder preferences for type, structure, and setting of services.

f. Establishment of a comprehensive vision for LTC services with priorities for implementation.

g. Identification of potential funding sources for program development and for ongoing financing of service delivery.

h. The integration and incorporation of the above elements into a report or other document that guides LTC services/system implementation, including a plan for sustainability.

Category 2—Implementation awards will support the following activities: Implementation of a service or group of services that add capacity to the LTC system of the applicant's Tribe or organization. The implementation plan should be based on a comprehensive assessment and plan, including a business plan. The services should be designed to be self-sustaining at the end of the project period.

Applications must be for only one Project Type. Applications that address more than one Project Type will be considered ineligible and will be returned to the applicant.

III. Eligibility Information

1. Eligibility

This is a full and open competition to all eligible applicants.

The AI/AN applicant must be one of the following:

A. A Federally-recognized Indian Tribe as defined by 25 U.S.C. 1603(d).

B. A Tribal organization as defined by 25 U.S.C. 1603(e).

C. Urban Indian health programs that operate a Title V Urban Indian Health Program: This includes programs currently under a grant or contract with the IHS under Title V of the Indian Health Care Improvement Act, (Pub. L. 94-437).

D. A consortium of eligible Tribes, Tribal organizations and Title V Urban Indian health programs.

Definitions

• Federally-recognized Indian Tribe means any Indian Tribe, band, nation, or other organized group or community, including any Alaska Native village or group or regional or village corporation as defined in or established pursuant to the Alaska Native Claims Settlement Act (85 Stat. 688) [43 U.S.C. 1601, et seq.], which is recognized as eligible for the special programs and services provided by the United States to Indians because of their status as Indians. 25 U.S.C. 1603(d).

• Tribal organization means the elected governing body of any Indian Tribe or any legally established organization of Indians which is controlled by one or more such bodies or by a board of directors elected or selected by one or more such bodies (or elected by the Indian population to be served by such organization) and which includes the maximum participation of Indians in all phases of its activities. 25 U.S.C. 1603(e).

• Urban Indian organizations are defined as non-profit corporate bodies situated in an urban center governed by an urban Indian controlled board of directors, and providing for maximum participation of all interested Indian groups and individuals, which body is capable of legally cooperating with other public and private entities for the purposes of performing the activities outlined in section 1653(a) of Title 25 U.S.C. 1603(h).

2. Cost Sharing or Matching

The Elder Care Initiative Long-Term Care Grant Program does not require matching funds or cost sharing.

3. Other Requirements

If application budgets exceed the stated dollar amount that is outlined within this announcement the application will not be considered for funding.

A Letter of Intent (LOI) is required to be submitted by no later than May 10, 2010. The LOI is mandatory but non-binding request for information that will assist in planning during the pre award phase. Applications will not be reviewed if a LOI is not submitted.

The following documentation of support is required: Tribal Resolution—A resolution of the Indian Tribe served by the project must accompany the application submission. This can be attached to the electronic application. An Indian Tribe that is proposing a project affecting another Indian Tribe must include resolutions from all affected Tribes to be served. Applications by Tribal organizations will not require a specific Tribal resolution if the current Tribal resolution(s) under which they operate would encompass the proposed grant activities. Draft resolutions are acceptable in lieu of an official resolution; however an official signed Tribal resolution must be received by the Division of Grants Operations (DGO), Attn: Kimberly M. Pendleton, 12300 Twinbrook Parkway, Suite 360, Rockville, MD 20852, prior to the Objective Review Committee on June 22-24, 2010. Therefore, if the IHS DGO does not receive an official signed resolution by June 15, 2010 then the application will be considered incomplete and will be returned without consideration.

*It is highly recommended that the Tribal resolution be sent by a delivery method that includes proof of receipt.

Tribal Consortia submitting an application are required to:

• Identify each of the consortium member Tribes.

• Identify if any of the member Tribes intend to submit a LTC grant application of their own.

• Demonstrate that the Tribal consortia's application does not duplicate or overlap any objectives of the other consortium members who may be submitting their own LTC grant application.

Any application received from a Consortium that does not meet the requirements above will be considered ineligible for review.

Nonprofit urban Indian Health Service organizations must submit a copy of the 501(c)(3) Certificate as proof of non-profit status.

IV. Application and Submission Information

1. Obtaining Application Materials

An application package and detailed instructions for this announcement may be found through Grants.gov (http://www.grants.gov) or at: http://www.ihs.gov?NonMedicalPrograms/gogp/index.cfm?module=gogp funding.

2. Content and Form Application Submission

The applicant must include the project narrative as an attachment to the application package.

Mandatory documents for all applicants include:

• Application forms:

○ SF-424.

○ SF-424A.

○ SF-424B.

• Budget Narrative (must be single spaced, not to exceed 3 pages).

• Project Narrative (must not exceed 10 pages).

• Tribal Resolution(s) or Tribal Letter(s) of Support (Tribal Organizations only).

• Letter of Support from Organization's Board of Directors (Title V Urban Indian Health Programs only)

• 501(c)(3) Certificate (Title V Urban Indian Health Programs only).

• Biographical sketches for all Key Personnel.

• Disclosure of Lobbying Activities (SF-LLL) (if applicable).

• Documentation of current OMB A-133 required Financial Audit, if applicable. Acceptable forms of documentation include:

○ E-mail confirmation from Federal Audit Clearinghouse (FAC) that audits were submitted; or

○ Face sheets from audit reports. These can be found on the FAC Web site: http://harvester.census.gov/fac/dissem/accessoptions.html?submit=Retrieve+Records.

• Letter of Intent.

A Letter of Intent (LOI) is required from each entity that plans to apply for funding under this announcement. The LOI must be submitted to the Division of Grants Operations to the attention of Kimberly M. Pendleton by May 10, 2010. Please submit all LOIs via fax (301) 443-9602. The LOI must reference the funding opportunity number, application deadline date, and eligibility status and indicate whether the intent is to apply for a Category I (Assessment and Planning) or Category II (Implementation) grant. Tribal Consortia submitting a letter of intent must also list all Tribal members of the consortium and indicate which of those Tribal members will be participating in the application. The letter must be signed by the authorized organizational official within your entity.

Public Policy Requirements

All Federal-wide public policies apply to IHS grants with exception of the Discrimination policy.

Requirements for Project and Budget Narratives

A. Project Narrative: This narrative should be a separate Word document that is no longer than 10 pages (see page limitations for each Part noted below) with consecutively numbered pages. Be sure to place all responses and required information in the correct section or they will not be considered or scored. If the narrative exceeds the page limit, only the first 10 pages will be reviewed. There are three parts to the Narrative: Part A—Program Information; Part B—Program Planning and Evaluation; and Part C—Program Report. See below for additional details about what must be included in the Narrative

Part A: Program Information (not to exceed 4 pages).

Section 1: Needs.

Part B: Program Planning and Evaluation (not to exceed 4 pages).

Section 1: Program Plans.

Section 2: Program Evaluation.

Part C: Program Report (not to exceed 2 pages).

Section 1: Describe major Accomplishments over the last 24 months.

Section 2: Describe major Activities over the last 24 months.

Note: Only those programs or services which the IHS is authorized to provide, either directly or through funding agreement, can be supported by this grant program. Programs and services developed with support of this grant program must be designed for the benefit of IHS beneficiaries. Guidance for the Project Narrative is provided below for the Category I Assessment and Planning grants and for the Category II Implementation grants.

Category I—Assessment and Planning

Part A: Program Information (not to exceed 4 pages).

Section 1: Needs.

Provide an understanding of the LTC needs of the elderly in the Tribe or service area and identify the additional information needed for planning. The number of elders affected by the program will be considered a factor in the review and the relationship of the amount of funding requested to the number of elders to be served will be considered. The applicant should use the best data available. Reviewers understand that, for many programs, these data elements will not be available or be poor in quality and that improved data for future planning will be an outcome of this project. When data is not available the unavailability of that data should be noted in this section and strategies for obtaining the necessary data should be included in the Program Planning and Evaluation section as part of the work-plan. Identify all information sources. Applicants will find the following questions helpful for this portion of the narrative.

1. What information do we currently have to guide development of LTC services or programs?

a. What do we know about our elder and disabled population and the need and preferences for services?

i. How many elders do we have? What proportion of the population are elders and at what rate is this segment growing?

ii. What are the rates of functional impairment or need for assistance in activities of daily living in our community? What do we know about the specific types of assistance needed?

iii. What geographic and social factors, including availability of caregivers, impact the ability of our elders and disabled to live in the community?

iv. What are the cultural and religious values regarding care of the elder that are important in planning for services?

v. What do we know about what elders want? What kinds of services do they want for themselves? What do they tell us about who should provide them, how and where?

b. What do we know about existing services and resources for LTC in our community?

i. What aging and LTC services are currently available to our elders and how are these organized? What services are provided by the Tribe or other AI/AN organizations and what might be available from non-Tribal/Non-Native organizations or programs?

ii. What health services, including Native or Traditional Medicine, are available for the elderly? How are these integrated into LTC?

iii. Do we have the capacity as a community or Tribe to provide care “in the most integrated setting appropriate to the needs of qualified individuals with disabilities” (Olmstead vs. L.C). Do we have the supports necessary for an individual with LTC needs to live in the community if that is what they want?

c. What resources do we have to support the formal (paid) and informal (usually family) caregivers who care for our elderly?

i. Do we have a way to train new formal caregivers or advance the knowledge and skills of existing caregivers?

ii. Do we have training and support for informal (usually family) caregivers?

d. What are the funding streams that currently pay for LTC services in our Tribe or community?

e. What collaborations in program development or service delivery are currently underway in our Tribe or community?

2. What do we know about the unmet need for LTC services?

3. What information don't we have that we will need to plan for sustainable services or programs to meet the unmet need?

Part B: Program Planning and Evaluation (not to exceed 4 pages).

Section 1: Program Plans.

In this section of the Narrative the applicant should explain what work they intend to do and how they intend to do it. The plan should strive to answer important unanswered questions in Part A in order to produce, as an end product, the readiness to develop LTC service(s).

For an example of the kind of information needed to demonstrate readiness to develop LTC service(s), see Part A: Need in the Category II Implementation Narrative instructions.

[Note that attendance and presentation at the AI/AN Long Term Care Conference and participation in periodic grantee teleconferences are a requirement of the grant and should be included as activities in the work plan].

a. Describe what you plan to do and how it is supported by the Narrative in Part A.

b. List the objectives of the assessment and planning process and how you will accomplish these objectives.

i. Tasks.

ii. Resources needed to implement and complete the project.

iii. Timeline.

iv. Any specialized technical resources you might need for data collection or analysis.

v. Training needs.

• Include in work plan attendance and presentation at the annual AI/AN Long Term Care Conference.

c. Identify the final product of the assessment/plan and the strategy for dissemination.

Section 2: Program Evaluation.

This section should show how you will know that you are successful with this project. It should answer the following questions:

• What is the overall result or product that you expect to achieve with this project?

• How will you track progress toward that outcome over time? What are the key deliverables or outcomes associated with each objective or task in the work plan?

• Who will be responsible for this evaluation (it does not have to be an external evaluator)? Evaluation activities should appear in the work plan.

Part C: Program Report (no more than 2 pages).

Section 1: Describe any work done in the past 10 years to assess the need for LTC services and plan for service or program development.

a. Is there a Tribal or Community vision for LTC and priorities for development of new services?

b. Have there been any assessment and planning activities? If so, what were the funding sources and dates of funding? What were the project accomplishments? What is the relationship of that work to the current proposal?

Section 2: Describe how this proposal integrates with current planning efforts or service delivery for the elderly and disabled in the Tribe or organization.

Category II—Implementation

Part A: Program Information (no more than 4 pages).

Section 1: Needs.

This section should give an understanding of need for and availability of LTC services in the Tribe or service area. Identify the number of elders to be served. Reviewers will take into account the number of elders that will be affected by the program. This section should demonstrate that the proposal is based on sound assessment and planning and that the services fit within a comprehensive vision or plan for elder care. The outline below identifies the information that should be included in this section. If this information is not available, you may consider applying for Category I funding to support the assessment and planning activities necessary for successful program development.

a. Demographic assessment of the population and assessment of LTC needs on a population basis.

i. Population distribution. Number of elderly of different age and gender groups in the population.

ii. Rates of functional impairment and numbers of elders with need for assistance in activities in daily living with adequate detail to project need for services.

b. Geographic and social factors that affect access to services and availability of caregivers.

i. Rural vs. urban; population density.

ii. Family structure and organization.

c. Assessment of cultural and religious values regarding care of the elder for the population(s) to be served.

d. Assessment of elder preferences for type, structure, and setting of services.

e. Evaluation of existing services and resources for LTC.

i. Availability and organization of existing aging and LTC services. Include services available to Tribal or community members provided by programs or organizations that are not Tribal or AI/AN organizations.

ii. Availability and organization of health services for the elderly, including Native healing systems and Traditional Medicine.

iii. The capacity of existing LTC services to support care provided in the least restrictive setting or “in the most integrated setting appropriate to the needs of qualified individuals with disabilities” (Olmstead vs. L.C).

f. Assessment of caregiver workforce.

i. The availability of potential caregivers (formal and informal).

ii. Training and support resources for formal and informal caregivers.

g. Identification of potential resources for new LTC service.

i. Funding for program development.

ii. Funding for ongoing service delivery.

iii. Potential partners in program development.

h. Relevant Federal, IHS, Tribal and/or State standards, laws and regulations and codes and relevant licensure or certification requirements.

i. A comprehensive vision or plan for LTC system/services which incorporates the information above and identifies priorities for implementation.

j. Unmet need for LTC services.

Part B: Program Planning and Evaluation (no more than 4 pages).

Section 1: Program Plans.

This section should include both the work plan for program implementation and the underlying plan or strategy for sustainability of the service(s) past the point of grant support. [Note that attendance and presentation at the AI/AN Long Term Care Conference and participation in periodic grantee teleconferences are a requirement of the grant and should be included as activities in the work plan].

a. Identify the LTC service(s) to be implemented and show how it:

i. Is consistent with the results of the assessment/planning process described above (Part A: Need).

ii. Integrates with existing LTC and health services.

b. Summarize the business plan or plan for self-sufficiency and sustainability, including:

i. Funding stream(s) to support ongoing services.

ii. Clearly indicate whether the program will be self-supporting (and if so, when) or not. If the services will not be self-supporting identify the source of the necessary additional revenue and document the availability of these resources.

iii. Timeline with projections for client recruitment, expected revenue and shortfalls, resources for funds needed to bridge between onset of services and collection of reimbursement, etc.

iv. Licensure or certification requirements.

v. Indicate if Tribal revenue is expected to pay in part or in whole for services and if so include a letter from the Tribal Council or administration indicating that these funds have been budgeted for this purpose.

c. Describe the approach to implementation.

i. Tasks.

ii. Resources needed to implement and complete the project.

iii. Timeline for implementation.

iv. Specialized technical resources.

v. Training needs.

• Include in work plan attendance and presentation at the annual AI/AN Long Term Care Conference.

vi. Consultation needs (if any).

Section 2: Program Evaluation.

This section should show how you will know that you are successful with this project. It should answer the following questions:

• What is the overall result or product that you expect to achieve with this project?

• How will you track progress toward that outcome over time? What are the key deliverables or outcomes associated with each objective or task in the work plan?

• Who will be responsible for this evaluation (it does not have to be an external evaluator)? Evaluation activities should appear in the work plan.

Part C: Program Report (no more than 2 pages).

Describe assessment and planning activities over the past 5 years that indicate readiness to successfully implement this program or service and a high likelihood of success.

B. Budget Narrative: This narrative should be a separate Word document that is no longer than 3 pages with consecutively numbered pages. If the Narrative exceeds the page limit, only the first 3 pages will be reviewed. The Budget Narrative should explain why each line item is necessary or relevant to the proposed project and should include sufficient details to facilitate the determination of cost allowability.

3. Submission Dates and Times

Applications must be submitted electronically through Grants.gov by June 4, 2010 at 12 midnight Eastern Standard Time (EST). Any application received after the application deadline will not be accepted for processing, and it will be returned to the applicant(s) without further consideration for funding.

If technical challenges arise and the applicants need help with the electronic application process, contact Grants.gov Customer Support via e-mail to support@grants.gov or at (800) 518-4726. Customer Support is available to address questions 24 hours a day, 7 days a week (except on Federal holidays). If problems persist, contact Tammy Bagley, Senior Grants Policy Analyst, IHS Division of Grants Policy (DGP) (tammy.bagley@ihs.gov) at (301) 443-5204. Please be sure to contact Ms. Bagley at least ten days prior to the application deadline. Please do not contact the DGP until you have received a Grants.gov tracking number. In the event you are not able to obtain a tracking number, call the DGP as soon as possible.

If an applicant needs to submit a paper application instead of submitting electronically via Grants.gov, prior approval must be requested and obtained. The waiver must be documented in writing (e-mails are acceptable), before submitting a paper application. A copy of the written approval must be submitted along with the hardcopy that is mailed to the DGO (Refer to Section VII to obtain the mailing address). Paper applications that are submitted without a waiver will be returned to the applicant without review or further consideration. Late applications will not be accepted for processing, will be returned to the applicant and will not be considered for funding.

4. Intergovernmental Review

Executive Order 12372 requiring intergovernmental review is not applicable to this program.

5. Funding Restrictions

• Pre-award costs are not allowable without prior approval from the awarding agency.

• In accordance with 45 CFR parts 74 and 92, pre-award costs are incurred at the recipient's risk. The awarding office is under no obligation to reimburse such costs if for any reason the applicant does not receive an award or if the award to the recipient is less than anticipated.

• The available funds are inclusive of direct and appropriate indirect costs.

• Only one grant/cooperative agreement will be awarded per applicant.

• Tribes, Tribal organizations, urban Indian health programs, or Tribal consortia receiving a Category I (Assessment and Planning) grant in the FY2006 or 2008 IHS Elder Care Initiative Long Term Care Grants cycles will be considered ineligible for FY2010 Category I (Assessment and Planning) funding unless they can demonstrate that the current application serves a different population than the FY2006-2007 grants. (e.g. a consortium may target different Tribes).

• Tribes, Tribal organizations, urban Indian health programs, or Tribal consortia receiving a Category II (Implementation) grant in the FY2006 or 2008 IHS Elder Health Care Initiative Long Term Care Grants cycles will be considered ineligible for FY2010 Category II (Implementation) funding unless they can demonstrate that they will be implementing an entirely new service or program (e.g. an applicant with current funding to implement an Adult Day Health Program may now apply for funding to implement a personal care program).

• IHS will not acknowledge receipt of applications.

6. Electronic Submission Requirements

The preferred method for receipt of applications is electronic submission through Grants.gov. In order to submit an application electronically, please go to http://www.Grants.gov and select the “Apply for Grants” link on the homepage. Download a copy of the application package on Grants.gov Web site, complete it offline and then upload and submit the application via Grants.gov site. You may not e-mail an electronic copy of a grant application to IHS.

Applicants that receive a waiver to submit paper application documents must follow the rules and timelines that are noted below. The applicant must seek assistance at least 15 days prior to the application deadline (June 4, 2010).

Please be reminded of the following:

• Please search for the application package in Grants.gov (http://www.Grants.gov) by entering the CFDA number or the Funding Opportunity Number. Both numbers are located in the header of this announcement.

• Paper application is not the preferred method for submitting applications. However, if you experience technical challenges while submitting your application electronically, please contact Grants.gov Support directly at: http://www.Grants.gov/CustomerSupport or (800) 518-4726. Customer Support is available to address questions 24 hours a day, 7 days a week (except on Federal holidays).

• Upon contacting Grants.gov, obtain a tracking number as proof of contact. The tracking number is helpful if there are technical issues that cannot be resolved and a waiver from the DGO must be obtained.

• If it is determined that a waiver is needed, you must submit a request in writing (e-mails are acceptable) to GrantsPolicy@ihs.gov with a copy to Tammy.Bagley@ihs.gov. Please include a clear justification for the need to deviate from our standard electronic submission process.

• If the waiver is approved, the application should be sent directly to the DGO by the deadline date of June 4, 2010.

• You must submit all documents electronically, including all information typically included on the SF-424 and all necessary assurance and certifications. Audits being sent separately must be received by June 15, 2010.

• Please use the optional attachment feature in Grants.gov to attach additional documentation that may be requested by the IHS.

• Your application must comply with any page limitation requirements described in this program announcement.

• After you electronically submit your application, you will receive an automatic acknowledgement from Grants.gov that contains a Grants.gov tracking number. The DGO will retrieve your application from Grants.gov. The DGO will not notify applicants that the application has been received.

• If submission of a paper application is requested and approved, the original and two copies must be sent to the appropriate grants contact listed in Section VII.

• E-mail applications will not be accepted under this announcement.

Dun and Bradstreet (D&B) Data Universal Numbering System (DUNS)

Applicants are required to have a DUNS number to apply for a grant or cooperative agreement from the Federal Government. The DUNS number is a unique nine-digit identification number provided by D&B, which uniquely identifies business entities. Obtaining a DUNS number is easy and there is no charge. The DUNS number is site specific; therefore each distinct performance site may be assigned a DUNS number. To obtain a DUNS number, access it through the following Web site http://fedgov.dnb.com/webform or to expedite the process call (866) 705-5711.

Another important fact is that applicants must also be registered with the Central Contractor Registration (CCR), and a DUNS number is required before an applicant can complete their CCR registration. Registration with the CCR is free of charge. Applicants may register online at http://www.ccr.gov. Additional information regarding the DUNS, CCR, and Grants.gov processes can be found at http://www.Grants.gov. Applicants may register by calling (866) 606-8220. Please review and complete the CCR Registration worksheet located at http://www.ccr.gov.

V. Application Review Information

Points will be assigned to each evaluation criteria adding up to a total of 100 points. A minimum score of 65 points is required for funding. Points are assigned as follows:

1. Evaluation Criteria

Program Information (40 points).

Program Planning and Evaluation (40 points).

Progress Report (10 points).

Budget Narrative (10 points).

2. Review and Selection Process

Applications will undergo an initial prescreening by the DGO. The prescreening will assess whether applications that meet the eligibility requirements are complete, responsive, and conform to criteria outlined in this program announcement. The applications that meet the minimum criteria will be reviewed for merit by the Objective Review Committee (ORC) based on the evaluation criteria. The ORC is composed of both Tribal and Federal reviewers, appointed by the IHS, to review and make recommendations on these applications. The review will be conducted in accordance with the IHS Objective Review Guidelines. The technical review process ensures selection of quality projects in a national competition for limited funding. Applications will be evaluated and rated by each reviewer on the basis of the evaluation criteria listed in Section V.1. The reviewers use the criteria outlined in this announcement to evaluate the quality of a proposed project, determine the likelihood of success, and assign a numerical score to each application. The scoring of approved applications will assist the IHS in determining which proposals will be funded if the amount of Elder Care funding is not sufficient to support all approved applications. Applications scored by the ORC at 65 points or above will be recommended for approval and forwarded to the DGO for cost analysis and further recommendation. Applications scoring below 65 points will be disapproved. The comments from the individual reviewers that participate in the ORC will be recommendations only.

VI. Award Administration Information

1. Award Notices

The Notice of Award (NoA) is a legally binding document, signed by the Grants Management Officer, and serves as the official notification of the grant award. The NoA is the authorizing document for which funds are dispersed to the approved entities and reflects the amount of Federal funds awarded, the purpose of the grant, the terms and conditions of the award, the effective date of the award, and the budget/project period. The NoA will be mailed via postal mail to each entity that is approved for funding under this announcement. Applicants who are approved but unfunded or disapproved based on their Objective Review score will receive a copy of the Final Executive Summary which identifies the weaknesses and strengths of the application submitted. Any correspondence other than the NoA announcing to the Project Director that an application was selected is not an authorization to begin performance.

2. Administrative Requirements

Grants are administered in accordance with the following regulations, policies, and OMB cost principles:

A. The criteria as outlined in this Program Announcement.

B. Administrative Regulations for Grants:

• 45 CFR part 92, Uniform Administrative Requirements for Grants and Cooperative Agreements to State, Local and Tribal Governments.

• 45 CFR part 74, Uniform Administrative Requirements for Grants and Agreements with Institutions of Higher Education, Hospitals, and other Non-profit Organizations.

C. Grants Policy:

• HHS Grants Policy Statement, January 2007.

D. Cost Principles:

• Title 2: Grants and Agreements, Part 225—Cost Principles for State, Local, and Indian Tribal Governments (OMB A-87).

• Title 2: Grants and Agreements, Part 230—Cost Principles for Non-Profit Organizations (OMB Circular A-122).

E. Audit Requirements:

• OMB Circular A-133 Audit of States, Local Governments and Non-profit Organizations.

3. Indirect Costs

This section applies to all grant recipients that request reimbursement of indirect costs in their grant application. In accordance with HHS Grants Policy Statement, Part II-27, IHS requires applicants to obtain a current indirect cost rate agreement prior to award. The rate agreement must be prepared in accordance with the applicable cost principles and guidance as provided by the cognizant agency or office. A current rate covers the applicable grant activities under the current award's budget period. If the current rate is not on file with the DGO at the time of award, the indirect cost portion of the budget will be restricted and not available to the recipient until the current rate is provided to the DGO.

Generally, indirect costs rates for IHS grantees are negotiated with the Division of Cost Allocation (DCA) http://rates.psc.gov/ and the Department of Interior National Business Center (1849 C St., NW., Washington, DC 20240) http://www.nbc.gov/acquisition/ics/icshome.html. If your organization has questions regarding the indirect cost policy, please contact the DGO at (301) 443-5204.

4. Reporting Requirements

Grantees must submit the reports consistent with the applicable deadlines. Failure to submit required reports within the time allowed may result in suspension or termination of an active grant, withholding of additional awards for the project, or other enforcement actions such as withholding of payments or converting to the reimbursement method of payment. Continued failure to submit required reports may result in one or both of the following: (1) Imposition of special award provisions; and (2) the non-funding or non-award of other eligible projects or activities. This applies whether the delinquency is attributable to the failure of the grantee organization or the individual responsible for preparation of the reports.

A. Progress Reports

Program progress reports are required to be submitted semi-annually, within 30 days after the budget period ends and will include a brief comparison of actual accomplishments to the goals established for the period, or, if applicable, provide sound justification for the lack of progress, and other pertinent information as required. A final report must be submitted within 90 days of expiration of the budget/project period.

B. Financial Reports

Semi-annual financial status reports must be submitted within 30 days after the budget period ends. Final financial status reports are due within 90 days of expiration of the project period. Standard Form 269 (long form) will be used for financial reporting and the final SF-269 must be verified from the grantee's records on how the value was derived.

Federal Cash Transaction Reports are due every calendar quarter to the Division of Payment Management, Payment Management Branch (DPM, PMS) . Please contact DPM/PMS at: http://www.dpm.psc.gov/ for additional information regarding your cash transaction reports. Failure to submit timely reports may cause a disruption in timely payments to your organization.

Grantees are responsible and accountable for accurate reporting of the Progress Reports and Financial Status Reports which are generally due annually. Financial Status Reports (SF-269) are due 90 days after each budget period and the final SF-269 must be verified from the grantee records on how the value was derived.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports.

Telecommunication for the hearing impaired is available at: TTY (301) 443-6394.

VII. IHS Agency Contact(s)

1. Questions on the programmatic issues may be directed to: Bruce Finke, M.D., Nashville Area/IHS Elder Care Health Consultant, 45 Vernon Street, Northhampton, MA 01060. (413) 584-0790. E-mail: Bruce.finke@ihs.gov.

2. Questions on grants management and fiscal matters may be direct to: Kimberly M. Pendleton, Grants Management Officer, Division of Grants Operation. Telephone No.: (301) 443-5204. Fax No.: (301) 443-9602. E-mail: Kimberly.pendleton@ihs.gov.

Dated: April 19, 2010.
Yvette Roubideaux,
Director, Indian Health Service.

[FR Doc. 2010-9505 Filed 4-22-10; 8:45 am]

BILLING CODE 4165-16-P